DEPARTMENT OF COMMERCE

National Oceanic and Atmospheric Administration

[Docket No. 00121 4351-0351-01]

Announcement of the Call for Applications for the Dr. Nancy Foster Scholarship Program

AGENCY: National Oceanic and Atmospheric Administration (NOAA), U.S. Department of Commcerce.

SUMMARY: The U.S. Department of Commerce (DOC) [pursuant to section 18 of Public law 106-513 (S. 1482)] is announcing a Call for Applications for the Dr. Nancy Foster Scholarship Program. The program is administered through the National Oceanic and Atmospheric Administration's National Ocean Service.

DATES: The Call for Applications will run from March 26 through April 22, 2001. Application packages must be postmarked by April 22, 2001 to be eligible for consideration.

ADDRESSES: Dr. Nancy Foster Scholarship Program, Office of the Assistant Administrator, 13th Floor, 1305 East-West Highway, Silver Spring, MD 20910-3281.

FOR FURTHER INFORMATION CONTACT: For further information contact: Joanne Flanders (301) 713-3074.

SUPPLEMENTARY INFORMATION: The purposes of the Dr. Nancy Foster Scholarship Program are: (1) To recognize outstanding scholarship in oceanography, marine biology, or maritime archaeology, including the curation, preservation, and display of maritime artifacts, particularly by women and members of minority groups; and, (2) to encourage independent graduate level research in oceanography, marine biology, or maritime archaeology. Each Dr. Nancy Foster Scholarship shall be used to support graduate studies in oceanography, marine biology, or maritime archaeology at a graduate level institution of higher education; and be awarded in accordance with guidelines issued by the Secretary. These shall be known as Dr. Nancy Foster Scholarships. Program details and application guidelines should be accessed via the Internet: http://fosterscholars.noaa.gov/.

Dated: March 21, 2001.
Ted I. Lillestolen,
Deputy Assistant Administrator for Ocean Services and Coastal Zone Management.

[FR Doc. 01-7486 Filed 3-22-01; 9:40 am]

BILLING CODE 3510-JE-M